DEPARTMENT OF THE INTERIOR

Bureau of Land Management

[MT-100-1220-AF]

Final Supplementary Rules for the Lower Blackfoot River Corridor; Montana

AGENCY: Bureau of Land Management, Interior.

ACTION: Final supplementary rules for recreation use of public lands along the Blackfoot River and McNamara Road, Missoula County, Montana.

SUMMARY: This notice contains final supplementary rules incorporating restrictions on recreation use on public lands located within one-quarter mile on either side of the Blackfoot River and/or McNamara Road extending from Johnsrud Park upstream for approximately 10 miles. The final supplementary rules are necessary to address resource protection needs identified in the Lower Blackfoot Corridor Environmental Assessment, MT-100-00-02.

EFFECTIVE DATE: The final rules are effective on April 7, 2004.

ADDRESSES: Field Manager, Bureau of Land Management, Missoula Field Office, 3255 Fort Missoula Road, Missoula, Montana 59804. You may also contact the BLM by internet e-mail at the following address: MT_Missoula_FO@blm.gov.

FOR FURTHER INFORMATION CONTACT: Nancy Anderson, Missoula Field Office, 3255 Fort Missoula Road, Missoula, Montana 59804, (406) 329-3914.

SUPPLEMENTARY INFORMATION:

I. Comments

II. Background

III. Discussion of Supplementary Rules

IV. Procedural Matters

I. Comments

No comments received.

II. Background

The Blackfoot River Recreation Corridor is a multi-cooperative partnership consisting of private landowners, Montana Department of Fish, Wildlife and Parks, and the Bureau of Land Management (BLM). This partnership was established in the 1970s to provide protection of natural resources and private property and to provide public safety along 26 miles of free flowing Blackfoot River.

In its June 1997 Lower Blackfoot River Assembled Land Exchange Environmental Assessment (MT-074-07-06), the BLM stated that “recreation along the Blackfoot River would continue to be managed under the existing Blackfoot River Recreation Corridor Landowner's Agreement.”

In 1998, the BLM began acquiring land within the corridor. The BLM now manages approximately 12,000 acres of land upstream from Johnsrud Park.

Since 1999, the BLM has managed this area under an interim restriction order (43 CFR 8364.1 (d). This order contains prohibited acts related to camping, motor vehicle use, public safety, and resource protection.

In 2001, the BLM completed the Lower Blackfoot Corridor Environmental Assessment. You may obtain the Environmental Assessment, upon which these supplementary rules are based, from the Missoula Field Office.

The lands affected by these rules are public lands in Missoula County, Montana, in the following sections:

T. 14 N., R. 15 W., Secs. 18 and 19.

T. 13 N., R. 16 W., Secs. 4, 5, and 6.

T. 14 N., R. 16 W., Secs. 13 and 14, 20 to 29, inclusive, 32 and 33.

III. Discussion of Supplementary Rules

Implementing these supplementary rules will establish consistency with the existing Montana Department of Fish, Wildlife and Parks' Blackfoot River Recreation Corridor rules. The supplementary rules are consistent with the interim restriction order and are supported by the Lower Blackfoot Corridor Environmental Assessment MT-100-00-02. BLM is finalizing these supplementary rules under the authority of 43 CFR 8365.1-6.

IV. Procedural Matters: Executive Order 12866, Regulatory Planning and Review

These supplementary rules are not a significant regulatory action and are not subject to review by Office of Management and Budget under Executive Order 12866. These supplementary rules would not have an effect of $100 million or more on the economy. They are not intended to affect commercial activity, but contain rules of conduct for public use of certain recreational areas. They will not adversely affect, in a material way, the economy, productivity, competition, jobs, the environment, public health or safety, or state, local, or tribal governments or communities. These supplementary rules would not create a serious inconsistency or otherwise interfere with an action taken or planned by another agency. The supplementary rules would not alter the budgetary effects of entitlements, grants, user fees, or loan programs or the right or obligations of their recipients; nor do they raise novel legal or policy issues.

National Environmental Policy Act

The BLM has prepared an environmental assessment (EA) and has found that the supplementary rules would not constitute a major Federal action significantly affecting the quality of the human environment under section 102(2)(C) of the Environmental Protection Act of 1969 (NEPA), 42 U.S.C. 4332(2)(C). The supplementary rules merely contain rules of conduct for certain recreational lands in Montana. These rules are designed to protect the environment and the public health and safety. A detailed statement under NEPA is not required. BLM has placed the EA and the Finding of No Significant Impact (FONSI) on file in the BLM Administrative Record at the address specified in the ADDRESSES section.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but to public recreational use of specific public lands. Therefore, BLM has determined under the RFA that these proposed supplementary rules would not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules have no effect on business, commercial or industrial, use of the public lands.

Unfunded Mandates Reform Act

These supplementary rules would not impose an unfunded mandate on state, local, or tribal governments or the private sector of more than $100 million per year; nor would these supplementary rules have a significant or unique effect on state, local or tribal governments or the private sector. The supplementary rules would not require anything of state, local, or tribal governments. Therefore, BLM is not required to prepare a statement containing the information required by the Unfunded Mandates Reform Act (2 U.S.C. 1531 et seq.).

Executive Order 12630, Governmental Actions and Interference With Constitutionally Protected Property Rights (Takings)

The supplementary rules do not represent a government action capable of interfering with constitutionally protected property rights. The supplementary rules do not address property rights in any form, and do not cause the impairment of anybody's property rights. Therefore, the Department of the Interior has determined that the supplementary rules would not cause a taking of private property or require further discussion of takings implications under this Executive Order.

Executive Order 13132, Federalism

The supplementary rules would not have a substantial direct effect on the states, on the relationship between the national government and the states, or on the distribution of power and responsibilities among the various levels of government. The supplementary rules would affect land in only one state, Montana, and do not address jurisdictional issues involving the state government. Therefore, in accordance with Executive Order 13132, BLM has determined that these supplementary rules do not have sufficient Federalism implications to warrant preparation of a Federalism Assessment.

Executive Order 12988, Civil Justice Reform

Under Executive Order 12988, the Office of the Solicitor has determined that these supplementary rules would not unduly burden the judicial system and that they meet the requirements of sections 3(a) and 3(b)(2) of the Order.

Executive Order 3175, Consultation and Coordination With Indian Tribal Governments

In accordance with Executive Order 13175, we have found that these supplementary rules do not include policies that have tribal implications. The supplementary rules contain only rules of conduct for recreation use of certain public lands managed by BLM.

Paperwork Reduction Act

These supplementary rules do not contain information collection requirements that the Office of Management and Budget must approve under the Paperwork Reduction Act, 44 U.S.C. 3501 et. seq.

Author

The principal author of these supplementary rules is BLM Ranger Anthony Lue of the Missoula Field Office, BLM, assisted by Ted Hudson of the Regulatory Affairs Group, Washington Office, BLM.

Under the authority of 43 CFR 8365.1-6, BLM issues the following supplementary rules on public lands of the Blackfoot River Corridor one-quarter mile on either side of the Blackfoot River and/or McNamara Road.

Sec. 1 Prohibited Acts

On public lands in Secs. 18 and 19, T. 14 N., R. 15 W., Secs. 4, 5, and 6, T. 13 N., R. 16 W., and Secs. 13 and 14, 20 to 29, inclusive, 32 and 33, T. 14 N., R. 16 W., Principal Meridian, Montana, that are within one-quarter mile on either side of the Blackfoot River or McNamara Road, or both, you must not:

a. Camp outside of designated sites or areas.

b. Light or maintain a fire except in designated areas or established by government fire rings.

c. Operate a motor vehicle off a designated trail, road or route.

d. Collect firewood for other than on-site use. You may burn only dead and down wood.

e. Discharge a firearm or projectile (except for legal game hunting purposes as established by the Montana Department of Fish, Wildlife and Parks), or engage in other recreational shooting including, but not limited to, plinking, target shooting, or shooting varmints, etc.

f. Use of a firework.

g. Violate a posted regulation pertaining to the protection of natural resources or public safety.

h. Occupy or camp at an area longer than 7 days during any 30-day period.

Sec. 2 Exemptions From the Supplementary Rules

Persons who are exempt from these supplementary rules include any Federal, state, or local officer, and members of any organized search and rescue team or firefighting force in performance of an official duty, BLM employees on official administrative business, and any person authorized by the BLM.

Sec. 3 Penalties

Under section 303(a) of the Federal Land Policy and Management Act of 1976 (43 U.S.C. 1733 (a)) and 43 CFR 8360.0-7, any person who violates any of these supplementary rules on public lands within the boundaries established in the rules may be tried before a United States Magistrate and fined no more than $1000 or imprisoned for no more than 12 months, or both. Such violations may also be subject to the enhanced fines provided for by 18 U.S.C. 3571.

Dated: January 30, 2004.
Martin C. Ott,
State Director, Montana State Office.

[FR Doc. 04-5094 Filed 3-5-04; 8:45 am]

BILLING CODE 4310-$$-P